NATIONAL AERONAUTICS AND SPACE ADMINISTRATION

[Notice: 15-009]

NASA Advisory Council; Institutional Committee; Meeting

AGENCY: National Aeronautics and Space Administration.

ACTION: Notice of meeting.

SUMMARY: In accordance with the Federal Advisory Committee Act, Public Law 92-463, as amended, the National Aeronautics and Space Administration announces a meeting of the Institutional Committee of the NASA Advisory Council (NAC). This Committee reports to the NAC.

DATES: Thursday, March 26, 2015, 9:00 a.m. to 5:00 p.m., Local Time, and Friday, March 27, 2015, 9:00 a.m. to 4:00 p.m., Local Time.

ADDRESSES: NASA Headquarters, Room 9H40 [Program Review Center (PRC)], 300 E Street SW., Washington, DC 20546.

FOR FURTHER INFORMATION CONTACT: Mr. Todd Mullins, Executive Secretary for the NAC Institutional Committee, NASA Headquarters, Washington, DC 20546, (202) 58-3831, or todd.mullins@nasa.gov.

SUPPLEMENTARY INFORMATION: The meeting will be open to the public up to the seating capacity of the room. This meeting is also available telephonically and by WebEx. You must use a touch tone phone to participate in this meeting. Any interested person may dial the toll free access number 844-467-6272 or toll access number 720-259-6462, and then the numeric participant passcode: 180093 followed by the # sign. To join via WebEx on March 26, the link is https://nasa.webex.com/, the meeting number is 990 778 028 and the password is Meeting2015! (Password is case sensitive.) To join via WebEx on March 27, the link is https://nasa.webex.com/, the meeting number is 999 775 359 and the password is Meeting2015! (Password is case sensitive.) Note: If dialing in, please “mute” your telephone. The agenda for the meeting will include the following:

—NASA Human Capital Culture Strategy

—NASA Leadership Development Programs

—NASA Export Control Program

—NASA Space Act Agreements Process

Attendees will be requested to sign a register and to comply with NASA Headquarters security requirements, including the presentation of a valid picture ID before receiving access to NASA Headquarters. Foreign nationals attending this meeting will be required to provide a copy of their passport and visa in addition to providing the following information no less than 10 working days prior to the meeting: Full name; gender; date/place of birth; citizenship; passport information (number, country, telephone); visa information (number, type, expiration date); employer/affiliation information (name of institution, address, country, telephone); title/position of attendee. To expedite admittance, attendees with U.S. citizenship and Permanent Residents (green card holders) can provide full name and citizenship status 3 working days in advance by contacting Ms. Mary Dunn, via email at mdunn@nasa.gov or by telephone at 202-358-2789. It is imperative that the meeting be held on this date to accommodate the scheduling priorities of the key participants.

Harmony R. Myers,
Acting Advisory Committee Management Officer, National Aeronautics and Space Administration.

[FR Doc. 2015-05768 Filed 3-12-15; 8:45 am]

BILLING CODE 7510-13-P